DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is August 31, 2023. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction).

The projects subject to this notice are:

1. SH 16 at Kansas City Southern (KCS) Railroad Grade Crossing in Jim Hogg County, Texas. The purpose of the project is to improve the existing SH 16 to provide a safer crossing of the KCS and enhance pedestrian and bicyclist safety within the project limits. On SH 16, the project limits are from Galbraith Street (SH 359) to approximately 600 feet south, and the improvements would include incorporating a curb-and-gutter section and creating a 10-foot-wide shared use pathway in each direction. SH 16 would become elevated up to match the elevation of the KCS railroad with retaining walls. On Hackberry Street, the project limits are from the intersection of SH 16 and Hackberry Street to approximately 210 feet west of the SH 16/Hackberry Street intersection, and the improvements would include sidewalk improvements, realigning the roadway, and transitioning from existing grade to match the grade at SH 16. A curb-and-gutter system would also be created. On Maria Street, the project limits are from the intersection of Hackberry Street and Maria Street to approximately 150 feet southwest of the Hackberry Street/Maria Street intersection, and the improvements would include realigning the roadway and transitioning from existing grade to match the grade at SH 16. A curb-and-gutter system would also be created. On Texas Street, the project limits are from the intersection of SH 16 and Texas Street to approximately 400 feet south of the SH 16/Texas Street intersection, and the improvements would include sidewalk improvements, realigning the roadway, and transitioning from existing grade to match the grade at SH 16. A curb-and-gutter system would also be created. The proposed project length is approximately 1,300 feet (SH 16, Hackberry, Maria, and Texas Streets combined). The actions by TxDOT and Federal agencies and the laws under which such actions were taken are described in the Categorical Exclusion Determination issued on December 20, 2022, and other documents in the TxDOT project file. The Categorical Exclusion Determination and other documents in the TxDOT project file are available by contacting the TxDOT Pharr District Office at 600 W. Interstate 2, Pharr, TX 78577; telephone: (956) 702-6100.

2. County Road (CR) 118 at Cottonwood Creek from CR 119 to CR 110 in Williamson County, Texas. The project will realign CR 118 at a new location, demolishing the existing bridge and approaches over Cottonwood Creek and building a new roadway on a new location to the south of the existing CR 118 with a new bridge and approaches over Cottonwood Creek. The project is approximately 0.52 miles in length. The actions by TxDOT and Federal agencies and the laws under which such actions were taken are described in the Categorical Exclusion Determination issued on January 23, 2023, and other documents in the TxDOT project file. The Categorical Exclusion Determination and other documents in the TxDOT project file are available by contacting the TxDOT Austin District Office at 7901 North I-35, Austin, TX 78753; telephone: (512) 832-7000.

3. US 281 (Military Highway) from FM 732 to FM 1421 in Cameron County, Texas. The project consists of reconstructing and widening the existing two-lane rural US 281 (Military Highway) to a four-lane rural highway with a left-turn lane and shoulders. The proposed roadway facility would include four 12-foot travel lanes with two travel lanes in each direction and 8-foot shoulders on each side of the roadway. The proposed roadway facility would also include a 14-foot turn lane. The project length is approximately 5.85 miles. The actions by TxDOT and Federal agencies and the laws under which such actions were taken are described in the Categorical Exclusion Determination issued on January 31, 2023, and other documents in the TxDOT project file. The Categorical Exclusion Determination and other documents in the TxDOT project file are available by contacting the TxDOT Pharr District Office 600 W. Interstate 2, Pharr, TX 78577; telephone: (956) 702-6100.

4. SH 107 from SH 495 to FM 2220 in Hidalgo County, Texas. The project would widen SH 107 and provide a raised median. The proposed SH 107 roadway from SH 495 to FM 2220 would generally consist of three 12-foot-wide travel lanes in each direction with 2-foot-wide inside and outside shoulders. Directions of travel would be separated by an 18-foot-wide raised median. From SH 495 to FM 681, a 5-foot-wide sidewalk would be constructed on the west side of the roadway and a 12-foot-wide shared use path would be constructed on the east side of the roadway. From FM 681 to FM 2220, a dedicated 10-foot-wide bicycle lane would be added to both sides of the roadway. A 5-foot sidewalk would be constructed on both sides of the roadway, and sidewalk ramps would be placed at all intersection corners. The project length is approximately 9.9 miles. The actions by TxDOT and Federal agencies and the laws under which such actions were taken are described in the Categorical Exclusion Determination issued on February 8, 2023, and other documents in the TxDOT project file. The Categorical Exclusion Determination and other documents in the TxDOT project file are available by contacting the TxDOT Pharr District Office 600 W. Interstate 2, Pharr, TX 78577; telephone: (956) 702-6100.

5. US 259 from SH 204 to Rusk County Line in Nacogdoches County, Texas. The project would widen US 259 to include two 12-foot northbound travel lanes and two 12-foot southbound travel lanes, 10-foot outside shoulders, and a 16-foot continuous two-way left-turn lane separating northbound and southbound travel lanes. The project length is approximately 6.87 miles. The actions by TxDOT and Federal agencies and the laws under which such actions were taken are described in the Categorical Exclusion Determination issued on February 15, 2023, and other documents in the TxDOT project file. The Categorical Exclusion Determination and other documents in the TxDOT project file are available by contacting the TxDOT Lufkin District Office at 1805 N. Timberland Drive, Lufkin, TX 75901; telephone: (936) 633-4321.

6. FM 1417 from OB Groner Road to US 75 in Grayson County, Texas. The proposed project includes widening a non-freeway to a six-lane divided highway consisting of raised medians, curb and gutters, grading, structures, pavement, signals, signing and pavement markings. The proposed facility would include six dedicated 12-foot-wide travel lanes and include dedicated 12-foot-wide right turn lanes approaching major intersections. Proposed access is at-grade throughout the project corridor. The proposed facility includes 16-foot wide raised, grassy medians. Proposed drainage would include curb and gutters for the entire length of the project. The proposed facility also would include a 10.5-foot-wide pedestrian realm berm with a 6-foot-wide sidewalk located on the apex of the berm, which extend for the entire length of the project area. The proposed facility would include a new BNSF Railroad Spur overpass structure at a higher elevation to meet vertical clearance requirements with a 6-foot-wide pedestrian realm consisting of raised sidewalk. There will be work on cross streets as well. The total project length is approximately 2.424 miles. The actions by TxDOT and Federal agencies and the laws under which such actions were taken are described in the Categorical Exclusion Determination issued on February 22, 2023, and other documents in the TxDOT project file. The Categorical Exclusion Determination and other documents in the TxDOT project file are available by contacting the TxDOT Paris District Office at 1365 North Main Street, Paris, TX 75460; telephone: (903) 737-9206.

7. The FM 3391 project would widen, reconstruct, and upgrade the facility from IH 35W to east of CR 602 in Johnson County, Texas. The 2.9-mile project would extend from existing northbound frontage road of IH 35W to approximately 1,490 feet east of CR 602. The existing FM 3391 between IH 35W and South Hurst Road would be improved from a five-lane undivided section to six-lane divided section and from a two-lane undivided section to four-lane divided section between South Hurst Road to east of CR 602. The proposed project would incorporate bicycle and pedestrian facilities. The actions by TxDOT and Federal agencies and the laws under which such actions were taken are described in the Categorical Exclusion Determination issued on February 24, 2023, and other documents in the TxDOT project file. The Categorical Exclusion Determination and other documents in the TxDOT project file are available by contacting the TxDOT Fort Worth District Office at 2501 SW Loop 820, Fort Worth, TX 76133; telephone: (817) 370-6772.

8. FM 70/SH 286 passing lanes, FM 70 from SH 286 to US 77, and SH 286 from south of FM 244 to FM 70 in Nueces County, Texas. The proposed project would widen the existing FM 70 and SH 286 roadways to add 12-foot-wide intermittent passing lanes and 10-foot-wide shoulders for approximately 25 miles. The intersection of FM 70 and SH 286 would be improved by adding a right turn lane from southbound SH 286 to westbound FM 70. In the eastbound direction, the proposed project would add passing lanes in five areas along FM 70. In the westbound direction, the proposed project would add passing lanes in four areas along FM 70. Along SH 286, the proposed project would add one passing lane in both the northbound and southbound directions. There are 11 total proposed passing lanes. Passing lanes would be 12-foot wide. Additionally, drainage improvements to address flooding issues on the existing roadway are proposed throughout the project length. The actions by TxDOT and Federal agencies and the laws under which such actions were taken are described in the Final Environmental Assessment (EA), the Finding of No Significant Impact (FONSI) issued on January 2, 2023, and other documents in the TxDOT project file. The EA, FONSI, and other documents in the TxDOT project file are available by contacting the TxDOT Corpus Christi District Office at 1701 South Padre Island Drive, Corpus Christi, TX 78416; telephone: (361) 808-2500.

9. FM 973 from SH 130 to US 290 in Travis County, Texas. The project will expand FM 973 from two to six travel lanes, three in each direction, and include a grassy median and turn lanes at various locations. The project also includes drainage improvements, overpasses, sidewalks, and shared-use paths. The project is 5.7 miles in length. The actions by TxDOT and Federal agencies and the laws under which such actions were taken are described in the Final Environmental Assessment (EA), the Finding of No Significant Impact (FONSI) issued on January 18, 2023, and other documents in the TxDOT project file. The EA, FONSI, and other documents in the TxDOT project file are available by contacting the TxDOT Austin District Office at 7901 North I-35, Austin, TX 78753; telephone: (512) 832-7000.

10. Borderland Expressway Project (formerly known as the Northeast Parkway Project) on State Loop 375 east of Railroad Drive Overpass to Farm-to-Market Road 3255 (Martin Luther King Jr. Boulevard) at the Texas-New Mexico border, in El Paso County, Texas. The proposed project would be a 10.8-mile long, four-lane, limited access, new location roadway in northeast El Paso County. The proposed project would be built in three phases as follows: Phase 1 would construct frontage roads between Railroad Drive and Business US 54 (Dyer Street). The second phase would construct the mainlanes between Railroad Drive and FM 3255 (MLK Jr. Boulevard). In the third phase, the mainlanes would be built from US 54 (Dyer Street) to Loop 375. The actions by TxDOT and Federal agencies and the laws under which such actions were taken are described in the Final Environmental Assessment (EA), the Finding of No Significant Impact (FONSI) issued on January 31, 2023, and other documents in the TxDOT project file. The EA, FONSI, and other documents in the TxDOT project file are available by contacting the TxDOT El Paso District Office at 13301 Gateway Boulevard West El Paso, TX 79928; telephone: (915) 790-4200.

11. FM 2964 (Rhones Quarter Road) from SH 110 to FM 346 in Smith County, Texas. The project would widen and reconstruct FM 2964 to a four-lane curb-an-gutter facility divided by a 14-foot, two-way left-turn lane. All travel lanes would be 12-feet wide. The project would include an 8-foot wide Shared-Use Path (SUP) on both sides of the road throughout the project limits, behind concrete curb-and-gutter which will accommodate drainage. The project proposes to realign the FM 2964 intersection with Shiloh Road, at Thistle Drive—approximately 1,200-feet west of its current location. The project would cul-de-sac FM 2964 at its existing intersection with Shiloh Road. South of Shiloh Road, the realigned section of FM 2964 would connect to the existing FM 2964 roadway south of Libbie Street. The project proposes to realign the existing FM 2964 intersection with Barbee Road (CR 2170), at Oscar Burkett Road (CR 2191)—approximately 450 feet north of its current location. The project would cul-de-sac existing Barbee Road at FM 2964. The project proposes to widen the existing bridge over Toll 49 to the east, to include four 12-foot travel lanes, a 12- to 16-foot left-turn lane, and 8-foot SUP. The project length is approximately 5.38 miles. The actions by TxDOT and Federal agencies and the laws under which such actions were taken are described in the Final Environmental Assessment (EA), the Finding of No Significant Impact (FONSI) issued on February 24, 2023, and other documents in the TxDOT project file. The EA, FONSI, and other documents in the TxDOT project file are available by contacting the TxDOT Tyler District Office at 2709 W. Front St., Tyler, Texas 75702; telephone: (903) 510-9100.

Authority: 23 U.S.C. 139(l)(1).

Michael T. Leary,
Director, Planning and Program Development, Federal Highway Administration.

[FR Doc. 2023-06817 Filed 3-31-23; 8:45 am]

BILLING CODE 4910-22-P